DEPARTMENT OF VETERANS AFFAIRS

Veterans' Advisory Committee on Education, Notice of Meeting

The Department of Veterans Affairs gives notice that a meeting of the Veterans' Advisory Committee on Education, authorized by 38 U.S.C. 3692, will be held on April 3 and April 4, 2000. The meeting will take place at the offices of Servicemembers Opportunity Colleges, 1307 New York Avenue, Washington, DC, 9 a.m. to 4 p.m. on Monday, April 3, and from 9 a.m. to 12 p.m. Tuesday, April 4. The purpose of the Committee is to assist in the evaluation of existing programs and services, and recommend needed programs and services. The focus of this meeting will be “Partnership for Veterans' Education”, increasing GI Bill benefits for the 21st century, and increasing the access to Department of Veteran Affairs Regional Processing Offices by colleges.

The meeting will be open to the public. Those wishing to attend should contact Mr. Bill Susling, Education Policy and Program Administration, (phone 202-273-7187) prior to March 28, 2000.

Interested persons may attend, appear before, or file statements with the Committee. Statements, if in written form, may be filed before or within 10 days after the meeting. Oral statements will be heard at 9 a.m. Tuesday, April 4, 2000.

Dated: March 9, 2000.
By direction of the Secretary.
Marvin R. Eason,
Committee Management Officer.

[FR Doc. 00-6644 Filed 3-16-00; 8:45 am]

BILLING CODE 8320-01-M